DEPARTMENT OF THE INTERIOR

Bureau of Land Management

[L14400000.PN0000/LXSITCOR0000/LLWO350000/17X; OMB Control Number 1004-0206]

Agency Information Collection Activities; Competitive Processes, Terms, and Conditions for Leasing Public Lands for Solar and Wind Energy Development

AGENCY: Bureau of Land Management, Interior.

ACTION: Notice of information collection; request for comment.

SUMMARY: In accordance with the Paperwork Reduction Act of 1995, the Bureau of Land Management (BLM) is proposing to renew an information collection.

DATES: Interested persons are invited to submit comments on or before December 17, 2019.

ADDRESSES: Send your comments on this information collection request (ICR) by mail to Jean Sonneman. U.S. Department of the Interior, Bureau of Land Management, 1849 C Street NW, Room 2134LM, Washington, DC 20240; or by email to jsonneman@blm.gov. Please reference OMB Control Number 1004-0206 in the subject line of your comments.

FOR FURTHER INFORMATION CONTACT: To request additional information about this ICR, contact Jeremy Bluma by email at jbluma@blm.gov, or by telephone at 208-373-3847.

SUPPLEMENTARY INFORMATION: In accordance with the Paperwork Reduction Act of 1995, the BLM provides the general public and other Federal agencies with an opportunity to comment on new, proposed, revised, and continuing collections of information. This helps to assess the impact of the BLM's information collection requirements and minimize the public's reporting burden. It also helps the public understand the BLM's information collection requirements and provides the requested data in the desired format.

The BLM is soliciting comments on the proposed ICR that is described below. The BLM is especially interested in public comment addressing the following issues: (1) Is the collection necessary to the proper functions of the BLM; (2) will this information be processed and used in a timely manner; (3) is the estimate of burden accurate; (4) how might the BLM enhance the quality, utility, and clarity of the information to be collected; and (5) how might the BLM minimize the burden of this collection on the respondents, including through the use of information technology.

Comments that you submit in response to this notice are a matter of public record. The BLM will include or summarize each comment in our request to OMB to approve this ICR. Before including your address, phone number, email address, or other personal identifying information in your comment, you should be aware that your entire comment—including your personal identifying information—may be made publicly available at any time. While you can ask in your comment to the BLM to withhold your personal identifying information from public review, the BLM cannot guarantee that it will be able to do so.

Abstract: This control number enables the BLM to collect the necessary information to authorize the use of public lands for solar and wind energy, pipelines, and electric transmission lines with a capacity of 100 Kilovolts (kV) or more.

Title of Collection: Competitive Processes, Terms, and Conditions for Leasing Public Lands for Solar and Wind Energy Development.

OMB Control Number: 1004-0206.

Form: SF-299.

Type of Review: Extension of a currently approved collection.

Description of Respondents: Businesses that seek authorization to use public lands for solar or wind energy development, pipelines, or electric transmission lines with a capacity of 100 Kilovolts (kV) or more.

Total Estimated Number of Annual Responses: 3,042.

Estimated Completion Time per Response: Varies from 2 to 16 hours, depending on the activity.

Total Estimated Number of Annual Burden Hours: 47,112.

Respondent's Obligation: Required to obtain or retain a benefit.

Frequency of Collection: On occasion.

Total Estimated Annual Nonhour Burden Cost: $2,180,808.

An agency may not conduct or sponsor and a person is not required to respond to a collection of information unless it displays a currently valid OMB control number. The authority for this action is the Paperwork Reduction Act of 1995 (44 U.S.C. 3501 et seq.)

Jean Sonneman,
Information Collection Clearance Officer, Bureau of Land Management.

[FR Doc. 2019-22806 Filed 10-17-19; 8:45 am]

BILLING CODE 4310-84-P